DEPARTMENT OF HEALTH AND HUMAN SERVICES

National Institutes of Health

Prospective Grant of Exclusive License: “Antibodies to Human Cripto Protein” and “Antibodies Specific for Human Cripto-Related Polypeptide CR-3”

AGENCY: National Institutes of Health, Public Health Service, DHHS.

ACTION: Notice.

SUMMARY: This is notice, in accordance with 35 U.S.C. 209 (c) (1) and 37 CFR 404.7 (a) (1) (i), that the National Institutes of Health, Department of Health and Human Services, is contemplating the grant of an exclusive license to practice the inventions embodied in U.S. Patent Application S/N 08/463,616 entitled, “Antibodies to Human Cripto Protein” filed on June 5, 1995 and now U.S. Patent 5,792,616 which issued on August 11, 1998 and U.S. Patent Application S/N 08/464,023 entitled, “Antibodies Specific for Human Cripto-Related Polypeptide CR-3” filed on June 5, 1995 and now U.S. Patent 5,854,399 which issued on December 29, 1998 to Biogen, Inc. of Cambridge, Massachusetts. The patent rights in these inventions have been assigned to the United States of America.

The prospective exclusive license territory will be for the United States and the field of use may be limited to therapeutics for the treatment and prevention of diseases in humans.

DATES: Only written comments and/or license applications which are received by the National Institutes of Health on or before April 17, 2000 will be considered.

ADDRESSES: Requests for copies of the patent, inquiries, comments and other materials relating to the contemplated exclusive license should be directed to: Richard U. Rodriguez, M.B.A., Technology Licensing Specialist, Office of Technology Transfer, National Institutes of Health, 6011 Executive Boulevard, Suite 325, Rockville, MD. 20852-3804. Telephone: (301) 496-7056, X287; Facsimile (301) 402-0220; E-mail rr154z@nih.gov.

SUPPLEMENTARY INFORMATION: U.S. Patent 5,792,616 claims both polyclonal and monoclonal antibodies that bind to a human cripto protein (CR-1) and a method of screening for the expression of a cripto protein in a tissue sample. U.S. Patent 5,854,399 claims a monoclonal antibody that binds to a human cripto-related polypeptide-3 (CR-3) and not to CR-1.

The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: February 8, 2000.
Jack Spiegel,
Director, Division of Technology Development and Transfer, Office of Technology Transfer.

[FR Doc. 00-3776 Filed 2-16-00; 8:45 am]

BILLING CODE 4140-01-P